DEPARTMENT OF HEALTH AND HUMAN SERVICES

45 CFR Part 5b

[Docket Number NIH-2022-0002]

RIN 0925-AA69

Privacy Act; Implementation

AGENCY: National Institutes of Health (NIH), Department of Health and Human Services (HHS).

ACTION: Final rule; delay of effective date.

SUMMARY: On January 16, 2025, the Department of Health and Human Services published a final rule to make effective the exemptions that were previously proposed for a new Privacy Act system of records, “NIH Police Records,” maintained by the National Institutes of Health (NIH), from certain requirements of the Act. That final rule was originally scheduled to take effect on February 18, 2025. This document announces that the effective date is delayed until March 21, 2025, in response to the memorandum titled “Regulatory Freeze Pending Review,” issued by the President on January 20, 2025.

DATES: As of February 18, 2025, the effective date of the final rule published on January 16, 2025 (90 FR 4673), is delayed to a new effective date of March 21, 2025.

FOR FURTHER INFORMATION CONTACT: Dustin Close, Office of Management Assessment, National Institutes of Health, 6705 Rockledge Drive, Suite 601, Bethesda, Maryland 20892, telephone 301-402-6469, email privacy@mail.nih.gov.

SUPPLEMENTARY INFORMATION: On January 16, 2025, HHS issued a final rule (90 FR 4673) to make effective the exemptions that were proposed (89 FR 48536) for a new Privacy Act system of records maintained by NIH from certain requirements of the Act. The new system of records covers criminal and non-criminal law enforcement investigatory material maintained by the NIH Division of Police, a component of NIH which performs criminal law enforcement as its principal function. The exemptions are necessary and appropriate to protect the integrity of law enforcement proceedings and records compiled during the course of NIH Division of Police activities, prevent disclosure of investigative techniques, and protect the identity of confidential sources involved in those activities.

On January 20, 2025, President Donald J. Trump issued a memorandum titled “Regulatory Freeze Pending Review” (90 FR 8249) that instructs Federal agencies to consider delaying the effective date of rules published in the Federal Register, but which have not yet taken effect, for a period of 60 days from the date of the memorandum. In accordance with that memorandum, HHS is delaying for 60 days from the date of the President's memorandum the effective date of the final rule titled “Privacy Act; Implementation” that published on January 16, 2025.

The effective date of that final rule, which would have been February 18, 2025, is now March 21, 2025.

Dorothy A. Fink,
Acting Secretary, Department of Health and Human Services.

[FR Doc. 2025-02810 Filed 2-14-25; 8:45 am]

BILLING CODE 4150-01-P